DEPARTMENT OF TRANSPORTATION

Federal Aviation Administration

High Density Traffic Airports; Slot Allocation and Transfer Method

AGENCY: Federal Aviation Administration (FAA), DOT.

ACTION: Notice of waiver of the slot usage requirement.

SUMMARY: This action modifies and extends until October 26, 2002, the waiver of the minimum slot usage requirement for slots and slot exemptions at the four high density traffic airports that is scheduled to expire on April 6, 2002 (66 FR 51718; October 10, 2001). A continuation of this waiver in some form is necessary to assist carriers in resuming service that was disrupted and/or reduced in September 2001.

EFFECTIVE DATE: April 7, 2002.

FOR FURTHER INFORMATION CONTACT: Lorelei Peter, Office of the Chief Counsel, AGC-220, Federal Aviation Administration, 800 Independence Avenue, SW., Washington, DC 20591; telephone number 202-267-3073.

SUPPLEMENTARY INFORMATION:

Background

Following the aircraft hijackings and terrorist attacks on September 11, 2001, the FAA temporarily ceased all non-military flights in the United States and required the adoption of certain security measures prior to the resumption of commercial air service. Several air carriers reduced flight schedules below previously planned levels in order to adjust to operational changes brought on by the new security requirements. Therefore, the agency issued a waiver of the slot usage requirement through April 6, 2002, to assist carriers in managing their operations at the high density traffic airports as a result of the recent extraordinary events.

Statement of Policy

The regulations governing slots and slot allocation provide that any slot not utilized at least 80 percent of the time over a 2-month period shall be recalled by the FAA (14 CFR 93.277(a)). Additionally, paragraph (j) of that section provides that the Chief Counsel may waive the slot usage requirement in the event of a highly unusual and unpredictable condition that is beyond the control of the slot holder and exists for more than nine days (14 CFR 93.227(j)). These two provisions are also applicable to slot exemptions. The FAA determined that the facts described above met the criteria for a waiver under Section 93.227(j). That waiver is applicable from September 11, 2001, through April 6, 2002.

Currently, operations at the high-density airports are below the number of allocated slots and slot exemptions. At Chicago O'Hare International Airport, traffic is down 10 percent compared to the same winter months from 2001. Also, the slot limits will be eliminated at that airport on July 1, 2002. At John F. Kennedy International Airport and LaGuardia Airport, traffic is down respectively 17 and 14 percent compared to winter 2001. Additional flights at these three airports are expected to commence during the summer scheduling season. At Washington's Reagan National Airport (DCA), the Department of Transportation is phasing in additional flights and effective March 1, 2002, has authorized approximately 77 percent of pre-September 11 scheduled flights.

The FAA finds that since September 11, there are a number of additional factors involved in an individual airline's decision to operate flights at the high-density traffic airports, as well as at other airports. These factors include new security requirements, aircraft utilization plans, passenger demand, and other operational issues that may temporarily preclude the full use of slots while the air traffic system and the aviation industry adjust to the changing aviation environment. Operations at these airports, excluding DCA, are continually increasing towards the pre-September 11 levels. As carriers are planning and scheduling future schedules, the FAA will allow carriers to continue implementation of service as intended. At this time, the agency does not want slot usage to become entangled with the deciding factors specified above or the economics of resuming or commencing certain service. As evidenced by the level of operations at these airports, excluding DCA, we anticipate that carriers are scheduling accordingly and that there will be close to full resumption of service over the summer months. In order to assist carriers during this adjustment period, the FAA will continue to waive the minimum slot usage requirement set forth in 14 CFR section 93.227(a) for all slots and slot exemptions at the high density traffic airports through October 26, 2002, with the following condition.

At the time that the FAA imposed this waiver, carriers were operating significantly reduced schedules and there was uncertainty as to when and how much service would increase over the next several months. Consequently, broad relief was necessary and the FAA issued a blanket waiver for all slots and slot exemptions until April 7, 2002. Today, the environment has changed and carriers are planning for more operations over the summer. Therefore, the waiver for slot usage at the four High Density Traffic Airports is revised by requiring carriers to return temporarily to the FAA in advance any slot or slot exemption that will not be used by a carrier for any specified period of time. Thus, if a carrier has not scheduled a slot or slot exemption for 80 percent usage, then the carrier must return the slot for the portion of time that it will not be using the slot, i.e., for the entire summer season, or for two weeks or certain frequencies, etc., or the use or lose requirement will be applied. Any carrier that chooses to temporarily return slots or slot exemptions to the FAA between now and October 26, 2002, may do so without jeopardizing the permanent loss of the slots or slot exemptions.

Although many carriers have not resumed their pre-September 11 planned system schedules, there may be some carriers seeking to add service or make changes to scheduled flight times that affect their slot holdings at an airport. While we advise carriers to work cooperatively with other airlines in order to maximize the use of available slots, the FAA may use temporarily returned slots or slot exemptions to accommodate short-term requests for additional slots or schedule adjustments. The FAA will continue to monitor any developments that may impact airlines' ability to meet the minimum usage requirements at any of the high density traffic airports.

Issued in Washington, DC, on February 28, 2002.
David G. Leitch,
Chief Counsel.

[FR Doc. 02-5338 Filed 3-5-02; 8:45 am]

BILLING CODE 4910-13-M